DEPARTMENT OF AGRICULTURE

Office of the Secretary

Privacy Act: Revision of Privacy Act Systems of Records

AGENCY: Office of the Secretary, USDA.

ACTION: Notice to Revise Privacy Act Systems of Records.

SUMMARY: Notice is hereby given that the United States Department of Agriculture (USDA) proposes to revise two Privacy Act Systems of Records entitled “Information on Persons Disqualified from the Supplemental Nutrition Assistance Program” and “Supplemental Nutrition Assistance Program Retailer Information.” These systems are owned, administered, and secured by the Food and Nutrition Service (FNS). The primary purpose of these systems is to assist in the administration and enforcement of the Supplemental Nutrition Assistance Program (SNAP), as well as other Federal and State laws.

DATES: Effective Date: This notice will be adopted without further publication in the Federal Register on January 26, 2011, unless modified by a subsequent notice to incorporate comments received from the public. Although the Privacy Act requires only that the portion of the system which describes the “routine uses” of the system be published for comment, USDA invites comment on all portions of this notice. Comments must be received by the contact person listed below on or before January 26, 2011.

FOR FURTHER INFORMATION CONTACT: Jennifer Weatherly, Freedom of Information Act Officer, Information Management Branch, Food and Nutrition Service, USDA, 3101 Park Center Drive, Alexandria, Virginia 22302; telephone (703) 605-0773 or via e-mail at Jennifer.weatherly@fns.usda.gov.

SUPPLEMENTARY INFORMATION: Pursuant to the Privacy Act, 5 U.S.C. 552a, FNS proposes to revise USDA/FNS-5, Information on Persons Disqualified from the Supplemental Nutrition Assistance Program, and USDA/FNS-9, Supplemental Nutrition Assistance Program Retailer Information, to reflect the safeguarding of data from security breaches and updates to the collection of data. These two systems of records are being revised to include a change to the routine use and exemptions that protect the information within the systems. The system of records notices explain how the records within the system will be used and with whom they will be shared. USDA/FNS-9 contains personal information from owners and officers of firms and other entities currently participating in SNAP and those who have previously participated in the program. USDA/FNS-5 contains personal information about persons disqualified from participating in SNAP.

Dated: December 14, 2010.
Thomas J. Vilsack,
Secretary of Agriculture.

REVISION

USDA/FNS-5

System name:

USDA/FNS-5, Information on Persons Disqualified from the Supplemental Nutrition Assistance Program.

Security classification:

None.

System location:

This system of records is under the control of the Deputy Administrator, Supplemental Nutrition Assistance Program, Food and Nutrition Service, United States Department of Agriculture, 3101 Park Center Drive, Alexandria, Virginia 22302. The data will be maintained at the Department's National Computer Center, Kansas City, Missouri (NCC-KC).

Categories of individuals covered by the system:

The system consists of information about individuals who have been disqualified from SNAP participation for intentionally violating SNAP regulations.

Categories of records in the system:

The system consists of standardized records containing identifying information (first name, middle initial, last name, Social Security number (SSN), date of birth, and sex) about individuals disqualified from SNAP and information identifying the location, date(s) and length(s) of any disqualification determined and imposed.

Authority for maintenance of the system:

7 U.S.C. 2011-2031.

Purpose(s):

To facilitate the Congressional mandate to increase the severity of disqualifications from SNAP for repeated instances of fraudulently obtaining SNAP benefits and to verify eligibility of applicants for SNAP benefits.

Routine uses of records maintained in the system, including categories of users and the purposes of such uses:

Records contained in this system may be disclosed, as part of a computer matching program or otherwise, to State agency personnel responsible for investigating or prosecuting violations of SNAP regulations, and to Federal, State, and local officials responsible for administration of SNAP. Records contained in this system also may be disclosed to the General Accounting Office for program audit purposes.

Information security breaches will be disclosed to appropriate agencies, entities, and persons when (1) FNS suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(1) FNS may disclose information from this system of records to the Department of Justice (DOJ), a court or other tribunal, or another party before such tribunal, when USDA, any component thereof, or any employee of the USDA in his or her official capacity, any USDA employee in his or her individual capacity where DOJ (or USDA where it is authorized to do so) has agreed to represent the employee, or the United States where USDA determines that the litigation is likely to affect directly the operations of USDA or any of its components, is a party to the litigation or has an interest in such litigation, and USDA determines that the use of such records by DOJ, the court or other tribunal, or the other party before such tribunal is relevant and necessary to the litigation; provided, however, that in each case, USDA determines that such disclosure is compatible with the purpose for which the records were collected.

(2) FNS may disclose records from this system of records to a congressional office from the record of an individual provided that individual gave the congressional office written permission to inquire on his or her behalf.

(3) Disclosures pursuant to 5 U.S.C. 552a(b)(12). Disclosures may be made from this system to “consumer reporting agencies” as defined in the Fair Credit Reporting Act (15 U.S.C. 1681a(f)) or the Debt Collection Act of 1982 (31 U.S.C. 3711(d)(4)).

Policies and practices for storing, retrieving, accessing, retaining, and disposing of records in the system:

Storage:

Records are maintained on the Department's computers at the NCC-KC or on magnetic tapes or other electronic media at that facility.

Retrievability:

Records may be indexed and retrieved by name of the individual, by SSN, by Federal Information Processing Standard (FIPS) code, or by a State case-file identification number.

Safeguards:

Records will be available only to identified State agency personnel charged with SNAP enforcement. Voice recognition or other biometric technology may be used; such a system will release information only to authorized individuals calling from authorized telephone numbers. Online access to the NCC-KC database will be restricted to FNS personnel charged with system management. The NCC-KC is the repository of numerous Department systems of records and other sensitive databases. It was constructed and is maintained as a highly secure facility. State agencies will be provided information from this system of records only upon entering into a written agreement with FNS. This agreement includes the understanding that State agencies will provide full security for data released to them and will limit access to this data to authorized personnel only. Any reports generated by FNS will be for system evaluation purposes only and will be maintained in secured offices and facilities.

Retention and disposal:

Because the law mandates a longer disqualification period if there have been any prior disqualifications, FNS intends to maintain these records permanently in an electronic or magnetic tape mode.

System manager(s) and address:

Director, Program Accountability and Administration Division, Supplemental Nutrition Assistance Program, Food and Nutrition Service, United States Department of Agriculture, 3101 Park Center Drive, room 816, Alexandria, Virginia 22302. Telephone: (703) 305-2413.

Notification procedure:

Any individual may request information regarding this system of records, or information as to whether the system contains records pertaining to the individual, from the system manager listed above.

Record access procedure:

An individual may obtain information about a record in the system which pertains to the individual by submitting a written request to the systems manager listed above. The envelope and the letter should be marked “Privacy Act Request.”

A request for information pertaining to an individual should contain the name, address, date of birth and SSN of the individual, and any other information that will assist in locating the record.

Contesting record procedures:

Individuals desiring to contest or amend information maintained in the system should direct their request to the system manager listed above, the reasons for contesting it and the proposed amendment to the information with supporting information to show how the record is inaccurate.

Record source categories:

Information in this system is provided by State agency personnel responsible for investigating cases involving intentional violations of SNAP regulations.

Exemptions claimed for the system:

Exemption 6 of the Freedom of Information Act (5 U.S.C. 552(b)(6)) permits the government to withhold information when the disclosure would constitute a clearly unwarranted invasion of personal privacy of third parties.

System name:

USDA/FNS-9 Supplemental Nutrition Assistance Program Retailer Information.

Security classification:

None.

System location:

Records are maintained in two host computer databases and in FNS field offices located throughout the United States. The two host computer databases, the Store Tracking and Redemption System (STARS) and Anti-fraud Locator using EBT Retailer Transactions (ALERT), are located within secure computing environments in the Office of Information Technology, Customer Service Branch, 45 South 7th Street, Suite 1810, Minneapolis, Minnesota 55402. The location of each FNS field office may be found in the local telephone book. A list of FNS field offices may also be obtained from the Internet at the FNS Web site located at: http://www.fns.usda.gov/cga/Contacts/FieldOffices/default.htm.

Categories of individuals covered by the system:

The STARS system consists of personal information from owners and officers of stores and other entities currently participating in SNAP, as well as those owners and officers who have previously participated in the program. The individual paper records (i.e., applications for authorization) located in FNS field offices also contain personal information from owners and officers who applied for authorization to participate in SNAP but were denied authorization. The ALERT system consists of household account numbers issued by State Agencies and electronic benefit transfer (EBT) card numbers assigned to each program recipient who has conducted at least one transaction at an approved retail grocery store. ALERT does maintain personal identifying information as some State Agencies embed SSN within the State issued household number.

Categories of records in the system:

The applications for authorization and reauthorization are in the STARS database and in the files of FNS field offices. The applications contain the following personal information regarding owners and officers: Name, home address, social security number, and date of birth. The SSNs are collected only from owners of sole proprietorships, partnerships, principal shareholders of private corporations, officers of cooperatives, and spouses of principal owners if a store is located in a community property state. The STARS database also maintains the following business information: corporation name and address, employer identification number (EIN), and financial data (i.e., food sales, gross sales, and SNAP redemption data) relative to each entity that applied and/or was authorized to accept program benefits. ALERT maintains a record of every electronic SNAP benefit transaction conducted at any authorized retail grocery store.

Authority for maintenance of the system:

Section 9 of the Food and Nutrition Act of 2008, as amended, (7 U.S.C. 2018); section 405(c)(2)(C) of the Social Security Act (42 U.S.C. 405(c)(2)(C)); and section 6109(f) of the Internal Revenue Code of 1986 (26 U.S.C. 6109(f)).

Purpose(s):

This information will be shared with other Federal and State entities to assist in the administration and enforcement of the Food and Nutrition Act of 2008 (FNA), as well as other Federal and State laws. The SSNs and employer identification numbers (EIN) of store owners will only be shared with Federal agencies which maintain those numbers in their files. The STARS database is used to process retail grocery stores that wish to apply to accept benefits and to monitor ongoing SNAP participation and eligibility. ALERT is a fraud detection system that is used to monitor SNAP electronic transaction activity.

Routine uses of records maintained in the system, including categories of users and the purposes of such uses:

Limitations on Disclosure under the Following Routine Uses (1) through (11): Information obtained from applicants under the authority of 7 U.S.C. 2018(c) may be used or disclosed only as specified in 7 U.S.C. 2018 (c). With the exception of the SSNs and EINs obtained from applicants, 7 U.S.C. 2018(c) gives FNS the authority to disclose the contents of an initial application, or other information submitted by an applicant to other Federal and State law enforcement and investigative agencies for the purposes of administering or enforcing the FNA or any other Federal or State law. 7 U.S.C. 2018(c) also limits the use of the information obtained by applicants. That is, the above mentioned entities may only use this information for purposes directly connected with the administration and enforcement of the FNA or any other Federal or State law.

Information obtained from applicants includes ownership information, sales information, and redemption data.

Information security breaches will be disclosed to appropriate agencies, entities, and persons when (1) FNS suspects or has confirmed that the security or confidentiality of information in the system of records has been compromised; (2) FNS has determined that as a result of the suspected or confirmed compromise there is a risk of harm to economic or property interests, identity theft or fraud, or harm to the security or integrity of this system or other systems or programs (whether maintained by FNS or another agency or entity) that rely upon the compromised information; and (3) the disclosure made to such agencies, entities, and persons is reasonably necessary to assist in connection with FNS efforts to respond to the suspected or confirmed compromise and prevent, minimize, or remedy such harm.

The use and disclosure of SSNs and EINs obtained by applicants is also covered in the Social Security Act and the Internal Revenue Code. In accordance with the Social Security Act and the Internal Revenue Code, applicant SSNs and EINs may be disclosed only to other Federal agencies authorized to have access to SSNs and EINs and maintain these numbers in their files, and only when the Secretary of Agriculture determines that disclosure would assist in verifying and matching such information against information maintained by such other agency (42 U.S.C. 405(c)(2)(C)(iii); 26 U.S.C. 6109(f)). Routine Uses (1) through (11):

(1) FNS may disclose information from these systems of records to the Department of Justice (DOJ), a court or other tribunal, or another party before such tribunal, when USDA, any component thereof, or any employee of the USDA in his or her official capacity, any USDA employee in his or her individual capacity where DOJ (or USDA where it is authorized to do so) has agreed to represent the employee, or the United States where USDA determines that the litigation is likely to affect directly the operations of USDA or any of its components, is a party to the litigation or has an interest in such litigation, and USDA determines that the use of such records by DOJ, the court or other tribunal, or the other party before such tribunal is relevant and necessary to the litigation, provided, however, that in each case USDA determines that such disclosure is compatible with the purpose for which the records were collected.

(2) In the event that material in these systems indicates a violation of the FNA or any other Federal or State law whether civil, criminal, or regulatory in nature, and whether arising by general statute, or by regulation, rule, or order issued pursuant thereto, FNS may disclose the relevant records to the appropriate agency, whether Federal or State, charged with the responsibility of investigating or prosecuting such violation or charged with enforcing or implementing the statute, or rule, regulation or order issued pursuant thereto.

(3) FNS may disclose records from these systems of records to a congressional office from the record of an individual provided that individual gave the congressional office permission to inquire on his or her behalf.

(4) FNS may use information from these systems of records, including SSNs and EINs, to collect and report on delinquent debt and may disclose the information to other Federal and State agencies, as well as private collection agencies, for purposes of claims collection actions including, but not limited to, administrative offset and referral to DOJ for litigation. (Note: SSNs and EINs will only be disclosed to Federal agencies.)

(5) FNS may disclose information from these systems of records to other Federal and State agencies to respond to specific requests from such Federal and State agencies for the purpose of administering the FNA as well as other Federal and State laws.

(6) FNS may disclose information from these systems of records to other Federal and State agencies to verify information reported by applicants and participating firms, and to assist in the administration and enforcement of the FNA as well as other Federal and State laws.

(7) FNS may disclose information from these systems of records to other Federal and State agencies for the purpose of conducting computer matching programs.

(8) FNS may disclose information (excluding EINs) from these systems of records to private entities having contractual agreements with USDA for designing, developing, and operating the system, and for verification and computer matching purposes.

(9) FNS will disclose information from these systems of records to the Internal Revenue Service, for the purpose of reporting delinquent retailer and wholesaler monetary penalties of $600 or more for violations committed under the SNAP. FNS will report each delinquent debt to the Internal Revenue Service on Form 1099-C (Cancellation of Debt). USDA/FNS will report these debts to the Internal Revenue Service under the authority of the Income Tax Regulations (26 CFR Parts 1 and 602) under section 6050P of the Internal Revenue Code (26 U.S.C. 6050P).

(10) FNS may disclose information from these systems of records to State agencies that administer the Special Supplemental Nutrition Program for Women, Infants, and Children (WIC), authorized under section 17 of the Child Nutrition Act of 1966 (CNA)(42 U.S.C. 1786), for purposes of administering CNA and the regulations issued under that CNA.

(11) Disclosures pursuant to 5 U.S.C. 552a(b)(12). Disclosures may be made from this system to “consumer reporting agencies” as defined in the Fair Credit Reporting Act (15 U.S.C. 1681a(f)) or the Debt Collection Act of 1982 (31 U.S.C. 3711(d)(4)).

Policies and practices for storing, retrieving, accessing, retaining, and disposing of records in the system:

Storage:

File folders, magnetic tapes, computer disks, and other electronic media.

Retrievability:

In STARS, the personal identifying information is retrievable by owner's name and by SSN. In ALERT, the personal identifying information is retrievable by the State-issued household number assigned to each program recipient.

Safeguards:

(1) Authorized Users: When designing, developing and/or operating a system of records on individuals, contractors are required to comply with all provisions of the Privacy Act. Contractors are required to maintain and protect the personal data and cannot release or share data without consulting with FNS. Access to records maintained within FNS is limited to those staff officials responsible for the subject system of records. Otherwise, access is limited to persons authorized and needing to use the records, including project directors, contract officers, programmers, analysts, statisticians, statistical clerks, and computer technicians on the staff of the contractors or in the FNS. Both systems utilize USDA's eAuthentication services to ensure the valid identity of the user.

(2) Physical Safeguards: Paper records are stored in locked safes, locked files, and locked offices when not in use. Computer terminals used to process personal identifiable data are located in secured areas and are accessible only to authorized users. Backup records which are stored offsite shall be used and stored under the same secure conditions.

(3) Procedural Safeguards: In order to access STARS or ALERT, each authorized individual is given a personal access ID and password. The individual's password must be changed at least every 45 days or whenever the individual feels it might have been compromised.

Access to personal information contained in the STARS database and to the paper record files is restricted to those individuals who have been authorized by FNS and who have a need to know such information in performing their official duties in administering the FNA and other Federal and State laws. SSNs cannot be viewed on screen in STARS by those individuals who are not specifically authorized to view them. FNS personnel, project officers, and contract officers oversee compliance with these requirements. When appropriate, FNS personnel will review the site facilities to ensure that records have been maintained in accordance with the terms of this notice.

Retention and disposal:

STARS and ALERT maintain personal identifying information indefinitely. The applications for authorization and reauthorization are kept in the FNS field offices for the duration each retail grocery store participates in the Program and then destroyed pursuant to the applicable document retention and disposal schedule.

System manager(s) and address:

Director, Benefit Redemption Division, Food and Nutrition Service, United States Department of Agriculture, 3101 Park Center Drive, Room 424, Alexandria, Virginia, 22302.

Notification procedure:

Any individual may request information regarding this system of records from the system manager. The request must be in writing.

Record access procedures:

An individual who wishes to request access to records in the system which pertains to the individual may submit a written request to the system manager. The envelope and the letter should be marked, “Privacy Act Request.” An individual may be required to reference the record by furnishing name, address, SSN, and/or other identifiers needed by FNS.

Contesting record procedures:

Individuals desiring to contest or amend information maintained in the system should direct their request to the system manager. The request should include, as appropriate, the reasons for contesting it, and the proposed amendment to the information with supporting information to show how the record is inaccurate, incomplete, untimely, or irrelevant.

Record source categories:

Information in this system comes from the authorization and reauthorization applications of stores and other entities which are currently participating in SNAP, as well as information on file for those entities which have previously participated in the program. Personal information in this system of records is also obtained from the owners and officers of such entities as reported on the authorization and reauthorization applications. The STARS database also keeps SNAP redemption history on such entities. The database maintains the dollar amount of SNAP benefits accepted by each entity currently authorized or previously authorized. ALERT maintains SNAP electronic transaction history of each entity currently authorized or previously authorized.

Exemptions claimed for the system:

Pursuant to subsection (k)(2) of the Privacy Act, 5 U.S.C. 552a(k)(2), this system of records is exempt from subsections (c)(3), (d), (e)(1), (e)(4)(G), (e)(4)(H), (e)(4)(I) and (f) of the Act.

[FR Doc. 2010-32457 Filed 12-23-10; 8:45 am]

BILLING CODE 3410-30-P